DEPARTMENT OF TRANSPORTATION

Research and Special Programs Administration

[Docket No. RSPA-2000-6827 (12412-N)]

Hazardous Materials: Proposed DOT Exemption for Discharging Intermediate Bulk Containers on Motor Vehicles

AGENCY: Research and Special Programs Administration (RSPA) DOT.

ACTION: Notice of proposed exemption.

SUMMARY: RSPA proposes to consolidate and standardize all existing DOT Exemptions that authorize the discharge of intermediate bulk containers (IBC) from a motor vehicle without removing the IBC from the vehicle. These are DOT Exemptions 12245, 12013, 11911, 11769, 11646, 11537, and 10429.

DATES: Comment Date: Comments must be received on or before August 11, 2000.

ADDRESSES: Written Comments: Address comments to the Dockets Management System, U.S. Department of Transportation, PL 401, 400 Seventh St., SW, Washington, DC 20590-0001. Comments should identify the docket number, RSPA-2000-6827 (12412-N), and should be submitted in two copies. Persons wishing to receive confirmation of receipt of their comments should include a self-addressed stamped postcard. The Dockets Management System is located on the Plaza Level of the Nassif Building, at the above address. Public dockets may be reviewed between the hours of 10:00 a.m. to 5:00 p.m., Monday thru Friday, excluding Federal holidays. In addition, comments can be reviewed by accessing the DMS Website (http://dms.dot.gov). Comments may also be submitted by E-mail to “ibc@rspa.dot.gov”. In every case, the comment should refer to the Docket number set forth above.

FOR FURTHER INFORMATION CONTACT: Mr. Donald Burger, telephone number (202) 366-4545, Office of Hazardous Materials Technology, Research and Special Programs Administration, U.S. Department of Transportation, Washington, DC 20590-0001.

SUPPLEMENTARY INFORMATION:

I. Background

The rationale and justification presented to RSPA with the original exemption applications to authorize the unloading of IBCs while onboard a motor vehicle were:

• A demonstrated need to deliver hazardous materials to sites which did not have the capability to safely unload an IBC from a motor vehicle prior to discharging the contents;

• The delivery and transfer of small quantities of hazardous materials into storage tanks was safer from IBCs than from several drums and not feasible from a cargo tank motor vehicle; and

• Carriers would have sufficient operational controls in place to ensure safety during the transfer operation.

Based on numerous requests for modification of the subject exemptions, particularly with regard to IBC capacity limitations and authorized materials, RSPA sent a May 27, 1999 letter to each holder and person having party status to DOT Exemptions 11911, 11769, 11646, 11537, 10429, 12013 and 12245. The letter contained 14 procedural and shipment questions regarding the operations of the respective holders. RSPA received numerous responses to the letter. The information gathered from each response was compiled and evaluated. In the replies to the letter, more than one third of the respondents indicated they unload in excess of 1,200 gallons of one hazardous material during a single delivery. Under this scenario, RSPA believes that the IBCs are being used as cargo tanks.

On October 27, 1999 RSPA sent a letter and a draft exemption (draft) to the individuals who received the May 27, 1999 letter. The draft contained many provisions similar to the existing IBC exemptions. In addition, the draft proposed that the maximum quantity of hazardous material discharged from an IBC was not to exceed 300 gallons per shipment per day. RSPA received numerous comments on this draft. The majority of the comments addressed the restriction placed upon the maximum quantity of hazardous material that could be discharged at one location. These comments were an additional indication to RSPA that the IBCs are being used as cargo tanks. Instead of imposing a quantity limitation, RSPA is considering a requirement that the discharge system provide the same level of safety during discharge as is required for use of a cargo tank. On July 10, 1998, RSPA issued a Final Rule under Docket RSPA-1997-2905 (HM-166Y) (63 FR 37454), addressing this issue for IM Portable Tanks where RSPA permitted an IM portable tank to be unloaded while remaining on a vehicle with the power unit attached, provided the tank meets the outlet requirements of § 178.345-11. Section 178.345-11(b)(1)(iii) provides that the remote means of closure for the stop valve on a cargo tank must be capable of thermal activation when required by Part 173 for materials which are flammable, pyrophoric, oxidizing, or poisonous liquids. The tank outlets are required to be equipped with this feature to ensure that the valve closes in a fire situation. Cargo tanks have been required to have this feature for many years. RSPA believes that when an IM portable tank, as well as an IBC, is used in the same manner as a cargo tank it should have the same level of safety in the event the operator cannot manually operate the closure.

The intended effect of this proposal is to develop a standardized exemption and to provide for the safe discharge of materials from intermediate bulk containers that have not been removed from the transport vehicle prior to unloading. Under this exemption, the holder and all parties to the exemption each would operate under the same controls and provisions. A second major draft of the proposed exemption is provided below.

Expiration Date: TBD

(For Renewal, See 49 CFR 107.109)

1. Grantee: TBD

2. Purpose and Limitation:

a. This exemption authorizes the discharge of liquid hazardous materials from DOT Specification UN Intermediate Bulk Containers (IBCs) without removing the IBC from the vehicle on which it is transported. This exemption provides no relief from the Hazardous Materials Regulations (HMR) other than as specifically stated herein.

b. The safety analyses performed in development of this exemption only considered the hazards and risks associated with transportation in commerce.

3. Regulatory System Affected: 49 CFR Parts 106, 107 and 171-180.

4. Regulations From Which Exempted: 49 CFR 177.834(h), in that an IBC is unloaded while on a motor vehicle, and the marking requirements in § 172.302(c).

5. Basis: This exemption is based on the application of XXXXXX dated ZZZZZ, submitted in accordance with § 107.105 and the public proceeding thereon.

6. Hazardous Materials (49 CFR 172.101):

Proper shipping name/hazardous materials description | Hazard class/division | Identi-fication No. | Packing group
All materials authorized to be shipped in UN IBCs | As appro-priate | As appro-priate | As appro-priate

7. Safety Control Measures:

a. Packaging—Packaging prescribed is a DOT Specification UN IBC.

(1) IBCs may not be manifolded together or have discharge outlets hard piped onto the vehicle.

(2) Discharge outlets must meet the requirements of § 178.345-11.

b. Operational Controls—

(1) Two or more materials may not be loaded on the same vehicle if any mixture of the materials would cause an unsafe condition.

(2) The IBC must be attended by a qualified person at all times during unloading operations. For the purposes of this requirement, “attended” and “qualified” have the meanings described in § 177.834(i)(3) and (4), respectively.

(3) IBCs must be discharged using a mechanical pump with a positive means of stopping the flow of liquid from the pump, by gravity, or by pressurizing the IBC.

(4) Before starting each transfer from an IBC to a receiving system, the person performing the function must determine that each component of the discharge system (including hose) is of sound quality and free of leaks and that connections are secure.

(5) A hose or associated equipment that shows signs of leakage, significant bulging, or other defects may not be used.

(6) If an IBC is unloaded using a pump, or if the IBC is pressurized for unloading, prior to using a new or repaired transfer hose, the hose assembly (the hose and associated fittings) must be subjected to a pressure test. The pressure test must be performed at no less than the pressure the hose is expected to be subjected to during product transfer. This test must include all hose and hose fittings arranged in the configuration to be employed during transfer operations. Burst pressure of the hose must be at least four times the service pressure of the pump.

(7) If the IBC is pressurized, the IBC must be equipped with a pressure relief device set to open at not higher than two-thirds of the IBC test pressure or 9 psig in the case of a metal IBC.

(8) All hazardous material must be purged from the pump, if equipped, piping and the IBC discharge hose prior to re-entering transportation. Hoses may not remain attached to the IBCs during transportation.

(9) Prior to refilling, each IBC and its service equipment must be visually inspected in accordance with the provisions of § 173.35(b).

(10) Transportation is limited to private or contract motor vehicle.

8. SPECIAL PROVISIONS:

a. A current copy of this exemption must be maintained at each facility where the package is offered for transportation.

b. The marking requirement of § 172.302(c) is waived.

9. MODES OF TRANSPORTATION AUTHORIZED: Motor vehicle.

10. MODAL REQUIREMENTS: A current copy of this exemption must be carried aboard each motor vehicle used to transport packages covered by this exemption.

11. COMPLIANCE: Failure by a person to comply with any of the following may result in suspension or revocation of this exemption and penalties prescribed by the Federal hazardous materials transportation law, 49 U.S.C. 5101 et seq:

• All terms and conditions prescribed in this exemption and the Hazardous Materials Regulations, 49 CFR Parts 171-180.

• Registration required by § 107.601 et seq., when applicable.

Each “Hazmat employee,” as defined in § 171.8, who performs a function subject to this exemption must receive training on the requirements and conditions of this exemption in addition to the training required by §§ 172.700 through 172.704.

No person may use or apply this exemption, including display of its number, when this exemption has expired or is otherwise no longer in effect.

12. REPORTING REQUIREMENTS: The carrier is required to report any incident involving loss of packaging contents or packaging failure to the Associate Administrator for Hazardous Materials Safety (AAHMS) as soon as practicable. In addition, the holder(s) of this exemption must inform the AAHMS, in writing, of any incident involving the package and shipments made under the terms of this exemption. (Sections 171.15 and 171.16 apply to any activity undertaken under the authority of this exemption.)

Issued in Washington, DC, on May 17, 2000, under the authority delegated in 49 CFR Part 107.
Robert A. McGuire,
Acting Associate Administrator for Hazardous Materials Safety.

[FR Doc. 00-14481 Filed 6-9-00; 8:45 am]

BILLING CODE 4910-60-P